DEPARTMENT OF COMMERCE

[Docket No. 000327082-0082-01]

RIN 0605-XX07

Privacy Act of 1974; System of Records

AGENCY: Department of Commerce.

ACTION: Notice of amendment of Privacy Act System of Records: Commerce/Patent and Trademark System 1; Commerce—Patent and Trademark System 2; Commerce/Patent and Trademark System 5.

SUMMARY: The Department of Commerce is amending the systems of records listed under Commerce—Patent and Trademark Systems 1: Attorneys and Agents Registered to Practice before the Patent and Trademark Office; Commerce-Patent and Trademark Systems 2: Complaints, Investigations and Disciplinary Proceedings Relating to Registered Patent Attorneys and Agents; and Commerce-Patent and Trademark Systems 5: Non-Registered Persons Rendering Assistance to Patent Applicants. This action has been taken to update the Privacy Act notice and to amend the routine use. We invite public comment on the proposed routine use in this publication.

DATES: Effective Date: The amendments will become effective as proposed without further notice on May 15, 2000 unless comments dictate otherwise.

Comment Date: To be considered, written comments must be submitted on or before May 15, 2000.

ADDRESSES: Comments may be sent via United States Mail delivery to Raymond Chen, Office of the Solicitor, United States Patent and Trademark Office, Box 8, Washington, DC 20231; via facsimile at 703-305-9373. All comments received will be available for public inspection at the Public Search Facilities, Crystal Plaza 3, 2021 South Clark Place, Arlington, VA 22202.

For further information contact: Raymond Chen, Office of the Solicitor, Box 8, Washington, DC 20231, or by phone at 703-305-9035.

SUPPLEMENTARY INFORMATION: Pursuant to an executive branch initiative to update the Privacy Act systems of records, the Department of Commerce amends three Privacy Act systems maintained by the U.S. Patent and Trademark Office (PTO) to describe the current practices of the PTO.

In addition to amending the notice of routine uses, other changes are being made to update the notice, including amendments to categories of individuals covered by the system, categories of records in the system, location of records, authority for maintenance of the system, policy and practices for storing records, and the title and business address of the agency official responsible for the records. A more detailed explanation of the changes follows for each system.

The below-referenced Prefatory Statement of General Routine uses is found at 46 FR 63501-63502 (December 31, 1981).

The Department of Commerce finds no probable or potential effect of the proposal on the privacy of individuals. To minimize the risk of unauthorized access to the system of records, the PTO has located paper records in lockable file cabinets or in metal file cabinets in secured rooms or secured premises with access limited to those whose official duties require access. Electronic files are stored in secured premises with access limited to those whose official duties require access.

Attorneys and Agents Registered To Practice Before the Patent and Trademark Office (PAT-TM-1)

The system location disclosure is updated to reflect correct addresses and to reflect that records in this system may be contained in the Office of Enrollment and Discipline (OED), the Office of the Solicitor, and/or the Commissioner's Office. This amendment to the system location reflects current practice and does not constitute a new collection of records. Changes in the PTO enrollment and disciplinary rules, part 10 of 37 CFR, instituted in 1985, moved the functions of enrollment and discipline from the Office of the Solicitor to OED, a separate office. Moreover, under current enrollment and disciplinary rules, persons covered by this system may petition OED decisions to the Commissioner of Patents and Trademarks. Additionally, the Solicitor provides legal advice and guidance on enrollment matters to both the OED and the Commissioner. Thus, records from this system may also be stored in the Commissioner's Office or in the Office of the Solicitor.

The category of records in the system is amended to include records pertaining to investigations of an applicant's suitability or eligibility for registration to practice before the PTO. This amendment to the categories of records in the system reflects current practice as authorized by 35 U.S.C. 31 and does not constitute a new collection of records.

The routine uses of records is amended to clarify the current notice. This amendment to the routine uses of records in the system reflects current practice and does not constitute a new collection of records or any new routine disclosure. The public roster notice in the current system is further defined to indicate that a registered practitioner's name, address, law firm or company affiliation, telephone number, and registration number will be published periodically. Currently, the PTO publishes this roster on its worldwide web site. The current notice is further amended to clarify that the PTO will release current status information (e.g., registered, not registered, suspended, etc.) upon inquiry from the public, state bars, courts, or other government agencies. The amendment also notices that the PTO may disclose information to solicit additional information regarding an applicant's suitability and eligibility to practice before the PTO, and that petitions for reinstatement by a suspended or excluded practitioner will be open to the public, pursuant to 37 CFR 10.160(e).

The storage notice is amended to reflect storage on microfilm and machine readable storage media. The safeguards notice is amended to reflect current practice. This amendment to the storage and safeguarding of records in the system reflects current practice and does not constitute a new collection of records, new storage means, or new safeguarding means. The system manager and notification procedure are amended to update correct addresses for those positions. The record source category is amended to reflect current practice of obtaining information from individuals.

Further, the notice for Privacy Act system “Attorneys and Agents Registered to Practice before the Patent and Trademark Office” (PAT-TM-1) has also been amended to add a notice regarding the PTO's intention to exempt that system of records from certain provisions of the Privacy Act as provided for in 5 U.S.C. 552a(k)(2). Some of the records in this system result from investigations compiled for law enforcement purposes. Namely, the records contain information regarding, inter alia, the moral and ethical fitness of an applicant to practice before the PTO. This information is relevant (a) to pending disciplinary investigations and proceedings in the PTO (b) to state bar violations, or (c) to violations of state and/or federal criminal and/or civil laws. The rulemaking process is concurrently amending 15 CFR 4b.14(b)(2) to add PAT-TM-1 to the systems of records which are exempt from certain provision of the Privacy Act under 5 U.S.C. 552a(k)(2).

The reasons set forth at 15 CFR 4b.14(b)(2) for exempting certain systems of records from certain provisions of the Privacy Act are also reasons for exempting PAT-TM-1 under 5 USC 552a(k)(2). The reasons for asserting the exemption are to prevent subjects of investigation from frustrating the investigatory process, to ensure the proper functioning and integrity of law enforcement activities, to prevent disclosure of investigative techniques, to maintain the ability to obtain necessary information, to fulfill commitments made to sources to protect their identities and the confidentiality of information and to avoid endangering these sources and law enforcement personnel. See 15 CFR 4b.14(b)(2).

Complaints, Investigations and Disciplinary Proceedings Relating to Registered Patent Attorneys and Agents (PAT-TM-2)

The system location disclosure is updated to reflect correct addresses and to reflect that records in this system may be contained in the Office of Enrollment and Discipline (OED), the Office of the Solicitor, and/or the Commissioner's Office. This amendment to the system location reflects current practice and does not constitute a new collection of records. Changes in the PTO enrollment and disciplinary rules, part 10 of 37 CFR, instituted in 1985, moved the functions of enrollment and discipline from the Office of the Solicitor to OED, a separate office. Under 37 CFR 10.140(b), the Commissioner designates certain associate solicitors to serve as legal counsel for the Director of OED. Thus, records from this system may also be maintained in the Office of the Solicitor. Moreover, under current enrollment and disciplinary rules, persons covered by this system may petition OED decisions to the Commissioner of Patents and Trademarks. Additionally, the Solicitor provides legal advice to the Commissioner on disciplinary matters. Thus, records from this system may be stored in the Commissioner's Office or in the Office of the Solicitor.

The categories of individuals covered by the system is amended to reflect current practice under PTO rules to include attorneys practicing trademark matters before the PTO and any other attorney appearing before the PTO.

The routine uses of records is amended to clarify the current notice. This amendment to the routine uses of records in the system reflects current practice and does not constitute a new collection of records or any new routine disclosure. Under 37 CFR 10.135(b), a notice of institution of a disciplinary complaint and case against an attorney or agent may be publicly disclosed. Additionally, upon a final order reprimanding, suspending, or excluding an attorney or agent, the records in this system may be publicly disclosed.

The storage notice is amended to reflect storage on microfilm and machine readable storage media. The safeguards notice is amended to reflect current practice. This amendment to the storage and safeguarding of records in the system reflects current practice and does not constitute a new collection of records or new storage means or new safeguarding means. The system manager and notification procedure are amended to update correct addresses for those positions. The record source category is amended to reflect the current practice of obtaining information from individuals.

Further, the notice for Privacy Act system Complaints, Investigations and Disciplinary Proceedings Relating to Registered Patent Attorneys and Agents (PAT-TM-2) has also been amended to add a notice regarding the agency's intention to exempt that system of records from certain provisions of the Privacy Act as provided for in 5 U.S.C. 552a(k)(2). All or substantially all of the records in PAT-TM-2 comprise investigatory material compiled for law enforcement purposes. Namely, the records are used to aid the agency in enforcing its statutes and regulations regarding the conduct of patent attorneys and agents admitted to practice before the PTO. The rulemaking process is concurrently amending 15 CFR 4b.14(b)(2) to add PAT-TM-2 to the systems of records which are exempt from certain provision of the Privacy Act under 5 U.S.C. 552a(k)(2).

The reasons set forth at 15 CFR 4b.14(b)(2) for exempting certain systems of records from certain provisions of the Privacy Act are also reasons for exempting PAT-TM-2 under 5 U.S.C. 552a(k)(2). The reasons for asserting the exemption are to prevent subjects of investigation from frustrating the investigatory process, to ensure the proper functioning and integrity of law enforcement activities, to prevent disclosure of investigative techniques, to maintain the ability to obtain necessary information, to fulfill commitments made to sources to protect their identities and the confidentiality of information, and to avoid endangering these sources and law enforcement personnel. See 15 CFR 4b.14(b)(2).

Non-Registered Persons Rendering Assistance to Patent Rendering Assistance (PAT-TM-5)

The system location disclosure is updated to reflect correct addresses and to reflect that records in this system may be contained in the Office of Enrollment and Discipline (OED) and the Office of the Solicitor. This amendment to the system location reflects current practice and does not constitute a new collection of records. Changes in the PTO enrollment and disciplinary rules, part 10 of 37 CFR, instituted in 1985, moved the functions of enrollment and discipline from the Office of the Solicitor to OED, a separate office. Under 37 CFR 10.140(b), the Commissioner appoints certain associate solicitors to serve as legal counsel for the Director of OED. Thus, records from this system may also be maintained in the Office of the Solicitor.

The storage notice is amended to reflect storage on microfilm and machine readable storage media. The safeguards notice is amended to reflect current practice. This amendment to the storage and safeguarding of records in the system reflects current practice and does not constitute a new collection of records or new storage means or new safeguarding means. The system manager and notification procedure are amended to update correct addresses for those positions.

Classification

This notice is not subject to the notice and comment requirements of the Administrative Procedure Act. 5 U.S.C. 553(a)(2).

This notice is exempt review under Executive Order 12866.

Accordingly, Privacy Act systems notices for Attorneys and Agents Registered to Practice before the Patent and Trademark Office (PAT-TM-1), Complaints, Investigations and Disciplinary Proceedings Relating to Registered Patent Attorneys and Agents (PAT-TM-2), and Non-Registered Persons Rendering Assistance to Patent Rendering Assistance (PAT-TM-5) originally published at 40 FR 32970 (August 5, 1975) are amended as follows:

COMMERCE/PAT-TM-1

System name:

Attorneys and Agents Registered to Practice Before the Office—COMMERCE/PAT-TM-1.

System location:

Office of Enrollment and Discipline, U.S. Patent and Trademark Office, 2221 South Clark Street, Arlington, Virginia 22202; Office of the Commissioner, 2121 Crystal Dr., Arlington, VA 22202; Office of the Solicitor, 2121 Crystal Drive, Arlington, VA 22202.

Categories of individuals covered by the system:

Attorneys and agents who are, or have been, registered to practice before the Patent and Trademark Office (“PTO”) in patent cases, and applicants and former applicants for such registration to practice.

Categories of records in the system:

Biographical information, personal and professional qualifications, character and fitness report, investigations of an applicant's suitability or eligibility for registration to practice before the PTO, undertakings of former patent examiners, current address, and status information.

Authority for maintenance of the system:

35 U.S.C. 1, 6, and 31.

Routine uses of records maintained in the system, including categories of users and the purposes of such uses:

See Prefatory Statement of General Routine uses Nos. 1-5 and 8-13. A public roster including an address of record, law firm or company affiliation, telephone number, and registration number of the registered individuals is published and disseminated; registration status is disseminated upon inquiry; and information may be published or otherwise disclosed to solicit information regarding an applicant's suitability and eligibility for registration to practice before the PTO.

Policies and practices for storing, retrieving, accessing, retaining, and disposing of records in the system:

Storage:

Paper records in file folders, microfilm, and machine readable storage media.

Retrievability:

Filed alphabetically by name or registration number.

Safeguards:

Records are located in lockable metal file cabinets or in metal file cabinets in secured rooms or secured premises with access limited to those whose official duties require access. Electronic files are stored in secured premises with access limited to those whose official duties require access.

Retention and disposal:

Records retention and disposal is in accordance with the unit's Records Control Schedule.

System manager(s) and address:

Director, Office of Enrollment and Discipline, Box OED, U.S. Patent and Trademark Office, Washington, DC 20231.

Notification procedure:

Information may be obtained from Director, Office of Enrollment and Discipline, Box OED, U.S. Patent and Trademark Office, Washington, DC 20231. Requester should provide name, address, date of application, and record sought, pursuant to the inquiry provisions of the Department's rules which appear in 15 CFR part 4b.

Record access procedures:

Requests from individuals should be addressed to: Same address as stated in the notification section above.

Contesting record procedures:

The Department's rules for access, for contesting contents, and for appealing initial determinations by the individual concerned appear in 15 CFR part 4b.

Record source categories:

Subject individual, references, and individuals furnishing information.

Systems exempted from certain provisions of the act:

Pursuant to 5 U.S.C. 552a(k)(2), all investigatory materials in the record which meet the criteria in 5 U.S.C. 552a(k)(2) are exempted from the notice, access, and contest requirements (under 5 U.S.C. 552a(c)(3), (d), (e) (1), (e)(4)(G), (H), and (I), and (f)) of the agency regulations because of the necessity to exempt this information and material in order to accomplish the law enforcement function of the agency, to prevent subjects of investigations from frustrating the investigatory process, to prevent the disclosure of investigative techniques, to fulfill commitments made to protect the confidentiality of sources, to maintain access to sources of information, and to avoid endangering these sources and law enforcement personnel.

COMMERCE/PAT-TM-2

System name:

Complaints, Investigations and Disciplinary Proceedings Relating to Registered Patent Attorneys and Agents—COMMERCE/PAT-TM-2.

System location:

Office of Enrollment and Discipline, U.S. Patent and Trademark Office, 2221 South Clark Street, Arlington, Virginia 22202; Office of the Commissioner, 2121 Crystal Drive, Arlington, VA 22202; Office of the Solicitor, 2121 Crystal Drive, Arlington, VA 22202.

Categories of individuals covered by the system:

Attorneys and agents registered to practice before the Patent and Trademark Office (PTO) in patent cases, attorneys practicing before the PTO in trademark cases, attorneys appearing before the PTO, and excluded or suspended attorneys and agents.

Categories of records in the system:

Complaints and information obtained during investigations and quasi-judicial disciplinary proceedings.

Authority for maintenance of the system:

35 U.S.C. 1, 6, and 32.

Routine uses of records maintained in the system, including categories of users and the purposes of such uses:

See Prefatory Statement of General Routine Uses Nos. 1-5, 8-10, and 13. Dissemination of information concerning the complaint, investigation, or disciplinary proceeding may be made to the complainant and to persons who can reasonably be expected to provide information needed in connection with the complaint, investigation, or disciplinary proceeding. Notice of filing of a disciplinary complaint may be publicly disclosed. Upon a final order reprimanding, suspending, or excluding an attorney or agent, the records in this system may be publicly disclosed.

Policies and practices for storing, retrieving, accessing, retaining, and disposing of records in the system:

Storage:

Paper records in file folders, microfilm, and machine readable storage media.

Retrievability:

Filed alphabetically by name or registration number.

Safeguards:

Records are located in lockable metal file cabinets or in metal file cabinets in secured rooms or secured premises with access limited to those whose official duties require access. Electronic files are stored in secured premises with access limited to those whose official duties require access.

Retention and disposal:

Records retention and disposal is in accordance with the unit's Records Control Schedule.

System manager(s) and address:

Director, Office of Enrollment and Discipline, Box OED, U.S. Patent and Trademark Office, Washington, DC 20231.

Notification procedure:

Information may be obtained from Director, Office of Enrollment and Discipline, Box OED, U.S. Patent and Trademark Office, Washington, DC 20231. Requester should provide name, address, date of application, and record sought, pursuant to the inquiry provisions of the Department's rules which appear in 15 CFR part 4b.

Record access procedures:

Requests from individuals should be addressed to: Same address as stated in the notification section above.

Contesting record procedures:

The Department's rules for access, for contesting contents, and for appealing initial determinations by the individual concerned appear in 15 CFR part 4b.

Record source categories:

Subject individuals, clients of same, registered attorneys and agents, witnesses in disciplinary proceedings, court opinions, and individuals furnishing information.

Systems exempted from certain provisions of the act:

Pursuant to 5 U.S.C. 552a(k)(2), all investigatory materials in the record which meet the criteria in 5 U.S.C. 552a(k)(2) are exempted from the notice, access, and contest requirements (under 5 U.S.C. 552a(c)(3), (d), (e)(1), (e)(4)(G), (H), and (I), and (f)) of the agency regulations because of the necessity to exempt this information and material in order to accomplish the law enforcement function of the agency, to prevent subjects of investigations from frustrating the investigatory process, to prevent the disclosure of investigative techniques, to fulfill commitments made to protect the confidentiality of sources, to maintain access to sources of information, and to avoid endangering these sources and law enforcement personnel.

COMMERCE/PAT-TM-5

System name:

Non-Registered Persons Rendering Assistance to Patent Applicants—COMMERCE/PAT-TM-5.

System location:

Office of Enrollment and Discipline, U.S. Patent and Trademark Office, 2221 South Clark Street, Arlington, Virginia 22202.

Categories of individuals covered by the system:

Persons other than registered attorneys or agents who have offered or rendered, for payment, various services to inventors, patent applicants, and patentees.

Categories of records in the system:

Declarations of assistance received and other reports or complaints, including names and addresses, of persons rendering services, and information obtained and used for investigatory and law enforcement purposes.

Authority for maintenance of the system:

35 U.S.C. 1, 6, and 33; 5 U.S.C. 301; 28 U.S.C. 533-535; 44 U.S.C. 3101; and E.O. 10450.

Routine uses of records maintained in the system, including categories of users and the purposes of such uses:

Providing notice to patent applicants regarding whether or not the persons from whom assistance was received are registered to practice before the Office. Used for investigative purposes. Also, see Prefatory Statement of General Routine Uses Nos. 1-5, 8-10, and 13.

Policies and practices for storing, retrieving, accessing, retaining, and disposing of records in the system:

Storage:

Paper records in file folders, microfilm, and machine readable storage media.

Retrievability:

Filed alphabetically by name.

Safeguards:

Records are located in lockable metal file cabinets or in metal file cabinets in secured rooms or secured premises with access limited to those whose official duties require access. Electronic files are stored in secured premises with access limited to those whose official duties require access.

Retention and disposal:

Records retention and disposal is in accordance with the unit's Records Control Schedule.

System manager(s) and address:

Director, Office of Enrollment and Discipline, Box OED, U.S. Patent and Trademark Office, Washington, DC 20231.

Notification procedure:

Director, Office of Enrollment and Discipline, Box OED, U.S. Patent and Trademark Office, Washington, DC 20231. Requester should provide name, address, date of application, and record sought, pursuant to the inquiry provisions of the Department's rules in 15 CFR part 4b.

Record access procedures:

Requests from individuals should be addressed to: Same address as stated in the notification section above.

Contesting record procedures:

The Department's rules for access, for contesting contents, and for appealing initial determinations by the individual concerned appear in 15 CFR part 4b.

Record source categories:

Patent applicants who have received and paid for services by the individuals on whom the records are maintained.

Systems exempted from certain provisions of the act:

Pursuant to 5 U.S.C. 552a(k)(2), all investigatory materials in the record which meet the criteria in 5 U.S.C. 552a(k)(2) are exempted from the notice, access, and contest requirements (under 5 U.S.C. 552a(c)(3), (d), (e)(1), (e)(4)(G), (H), and (I), and (f)) of the agency regulations because of the necessity to exempt this information and material in order to accomplish the law enforcement function of the agency, to prevent subjects of investigations from frustrating the investigatory process, to prevent the disclosure of investigative techniques, to fulfill commitments made to protect the confidentiality of sources, to maintain access to sources of information, and to avoid endangering these sources and law enforcement personnel.

Dated: March 29, 2000.
Brenda Dolan,
Departmental Freedom of Information Act and Privacy Act Officer.

[FR Doc. 00-8862 Filed 4-12-00; 8:45 am]

BILLING CODE 3510-16-P